DEPARTMENT OF ENERGY

Federal Energy Regulatory Commission

[Project No. 2090-003]

Green Mountain Power Corporation; Notice of Availability of Final Environmental Assessment

August 15, 2005.

In accordance with the National Environmental Policy Act of 1969 and Part 380 of the Federal Energy Regulatory Commission's (Commission) regulations, 18 CFR part 380; FERC Order No. 486 and 52 FR 47,897, the Office of Energy Projects Staff (staff) reviewed the application for a new license for the Waterbury Hydroelectric Project, located on the Little River in the town of Waterbury in Washington County, Vermont, and prepared a final environmental assessment (FEA) for the project. The project does not use or occupy any federal facilities or lands.

In this FEA, the staff analyzes the potential environmental effects of the existing project and concludes that licensing the project, with staff's recommended measures, would not constitute a major federal action significantly affecting the quality of the human environment.

A copy of the FEA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Magalie R. Salas,
Secretary.

[FR Doc. E5-4578 Filed 8-22-05; 8:45 am]

BILLING CODE 6717-01-P